DEPARTMENT OF ENERGY

Federal Energy Regulatory Commission

[Docket No. RP97-81-017]

Kinder Morgan Interstate Gas Transmission LLC; Notice of Complliance Filing

June 4, 2004.

Take notice that on May 28, 2004, Kinder Morgan Interstate Gas Transmission LLC (KMIGT) tendered for filing as part of its FERC Gas Tariff, Fourth Revised Volume No. 1-B, Original Sheet No. 44A, to be effective June 27, 2004.

KMIGT states that the above-referenced tariff sheet reflects changes to the General Terms and Conditions of KMIGT's Tariff regarding term coordination provisions between contracts associated with planned, interconnecting pipeline projects. KMIGT further states that the tariff sheet is being filed in compliance with the Commission's Letter Order issued in this proceeding on April 30, 2004.

KMIGT states that a copy of this filing has been served upon all parties to this proceeding, KMIGT's customers and affected State commissions.

Any person desiring to protest said filing should file a protest with the Federal Energy Regulatory Commission, 888 First Street, NE., Washington, DC 20426, in accordance with § 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1334 Filed 6-9-04; 8:45 am]

BILLING CODE 6717-01-P